DEPARTMENT OF TRANSPORTATION

SMART Grants Notice of Funding Opportunity

AGENCY: Office of the Assistant Secretary for Research and Technology (OST-R), U.S. Department of Transportation (DOT or the Department).

ACTION: Notice of Funding Opportunity (NOFO), Assistance Listing #20.941.

SUMMARY: The purpose of this notice is to solicit applications for Strengthening Mobility and Revolutionizing Transportation (SMART) grants. Funds for the fiscal year (FY) 2022 SMART Grants Program are to be awarded on a competitive basis to conduct demonstration projects focused on advanced smart city or community technologies and systems to improve transportation efficiency and safety.

DATES: Applications must be submitted by 5:00 p.m. EST on Friday, November 18, 2022. Late applications will not be accepted.

ADDRESSES: Applications must be submitted via Valid Eval, an online submission proposal system used by USDOT, at https://usg.valideval.com/teams/USDOT_SMART_2022/signup.

FOR FURTHER INFORMATION CONTACT: Please contact SMART Grant Program staff via email at smart@dot.gov, or call Roxanne Ledesma at 202-774-8003. A telecommunications device for the deaf (TDD) is available at 202-366-3993. In addition, USDOT will regularly post answers to questions and requests for clarifications, as well as schedule information regarding webinars providing additional guidance, on USDOT's website at https://www.transportation.gov/smart. The deadline to submit technical questions is Friday, November 4, 2022.

SUPPLEMENTARY INFORMATION: Each section of this notice contains information and instructions relevant to the application process for SMART grants. All applicants should read this notice in its entirety so that they have the information they need to submit eligible and competitive applications.

Section | Content | Page No.
A | Program Description | 2
B | Federal Award Information | 4
C | Eligibility Information | 5
D | Application and Submission Information | 10
E | Application Review Information | 15
F | Federal Award Administration Information | 19
G | Federal Awarding Agency Contacts | 24
H | Other Information | 24

Office of the Assistant Secretary for Research and Technology (OST-R), USDOT

Notice of Funding Opportunity for the Strengthening Mobility and Revolutionizing Transportation (SMART) Grants Program

A. Program Description

1. Overview

Section 25005 of the Infrastructure Investment and Jobs Act (Pub. L. 117-58, November 15, 2021; also referred to as the “Bipartisan Infrastructure Law” or “BIL”) authorized and appropriated $100 million to be awarded by the Department of Transportation (DOT) for FY 2022 for the SMART Grants Program. This NOFO solicits applications for activities to be funded under the SMART Grants Program. The FY22 funding will be implemented, as appropriate and consistent with law, in alignment with the priorities in Executive Order 14052, Implementation of the Infrastructure Investment and Jobs Act (86 FR 64355).¹

¹ The priorities of Executive Order 14052, “Implementation of the Infrastructure Investments and Jobs Act” are as follows: to invest efficiently and equitably, promote the competitiveness of the U.S. economy, improve job opportunities by focusing on high labor standards and equal employment opportunity, strengthen infrastructure resilience to hazards including climate change, and to effectively coordinate with State, local, Tribal, and territorial government partners. https://www.federalregister.gov/documents/2021/11/18/2021-25286/implementation-of-the-infrastructure-investment-and-jobs-act.

The purpose of the SMART Grants Program is to conduct demonstration projects focused on advanced smart city or community technologies and systems in a variety of communities to improve transportation efficiency and safety. The program funds projects that are focused on using technology interventions to solve real-world challenges and build data and technology capacity and expertise in the public sector.²

² For more information and illustrative use cases, please see www.transportation.gov/SMART.

2. Program Structure

The SMART Grants Program includes two stages: Stage 1 Planning and Prototyping Grants (Stage 1 grants) and Stage 2 Implementation Grants (Stage 2 grants). The program structure is based on a belief that planning, prototyping, and partnership are critical to advancing the state of the practice for data and technology projects in the public sector. USDOT anticipates that only recipients of Stage 1 Planning and Prototyping Grants will be eligible for Stage 2 Implementation Grants and anticipates funding projects of up to $2,000,000 per project for Stage 1 and up to $15,000,000 per project for Stage 2.

Stage 1 recipients should build internal buy-in and partnerships with stakeholders to refine and prototype their concepts, and report on results. Stakeholders can include public, private, academic, and nonprofit organizations; organized labor and workforce organizations; and community organizations and networks. At the conclusion of Stage 1, recipients should have the information to either create a fully realized implementation plan with robust performance metrics; or to make an informed decision not to proceed with the concept. Stage 1 results may uncover previously unknown institutional barriers, technical limitations, or poor performance relative to conventional solutions. The SMART Grants Program expects to document lessons learned from Stage 1 projects, knowing that these findings will be broadly beneficial to the transportation sector.

Stage 2 implementation projects should result in a scaled-up demonstration of the concept, integrating it with the existing transportation system and refining the concept such that it could be replicated by others. If demonstration at scale identifies critical challenges, gaps, or negative impacts, they should be clearly stated and documented so that other communities that take on similar projects can learn from them and adapt.

This NOFO solicits applications only for Stage 1 grants. USDOT anticipates that an FY23 SMART Grants Program NOFO will solicit applications for both Stage 1 and Stage 2 grants.

3. Departmental Priorities

The FY 2022-2026 U.S. Department of Transportation Strategic Plan establishes USDOT's strategic goals: safety, economic strength and global competitiveness, equity, climate and sustainability, transformation, and organizational excellence.³ The USDOT Innovation Principles guide Departmental actions related to innovation generally as well as the transformation strategic goal.⁴ Applicants are encouraged to review the Innovation Principles, along with other resources accessible on the SMART Grants website ⁵ and to incorporate them into the design of applications for the SMART Grants Program.

³ See: FY 2022-26 USDOT Strategic Plan (https://www.transportation.gov/dot-strategic-plan), page 6. Last updated April 7, 2022.

⁴ See: USDOT Innovation Principles (https://www.transportation.gov/priorities/innovation/us-dot-innovation-principles). Released January 6, 2022; last updated July 14, 2022.

⁵ Other resources can be found at www.transportation.gov/SMART, and include the USDOT Strategic Plan, the USDOT Equity Action Plan, and the National Roadway Safety Strategy.

4. SMART Grants Program Priorities

As established in BIL, projects funded by the SMART Grants Program use advanced data, technology, and applications to provide significant benefits to a local area, a State, a region, or the United States. These benefits are identified in BIL and align to the following categories:

• Safety and reliability: Improve the safety of systems for pedestrians, bicyclists, and the broader traveling public. Improve emergency response.

• Resiliency: Increase the reliability and resiliency of the transportation system, including cybersecurity and resiliency to climate change effects.

• Equity and access: Connect or expand access for underserved or disadvantaged populations. Improve access to jobs, education, and essential services.

• Climate: Reduce congestion and/or air pollution, including greenhouse gases. Improve energy efficiency.

• Partnerships: Contribute to economic competitiveness and incentivize private sector investments or partnerships, including technical and financial commitments on the proposed solution. Demonstrate committed leadership and capacity from the applicant, partners, and community.

• Integration: Improve integration of systems and promote connectivity of infrastructure, connected vehicles, pedestrians, bicyclists, and the broader traveling public.

The Department will prioritize SMART grants funding applications that demonstrate the following characteristics, identified in BIL:

• Fit, scale, and adoption: Right-size the proposed solution to population density and demographics, the physical attributes of the community and transportation system, and the transportation needs of the community. Confirm technologies are capable of being integrated with existing transportation systems, including transit. Leverage technologies in repeatable ways that can be scaled and adopted by communities.

• Data sharing, cybersecurity, and privacy: Promote public and private sharing of data and best practices and the use of open platforms, open data formats, technology-neutral requirements, and interoperability. Promote industry best practices regarding cybersecurity and technology standards. Safeguard individual privacy.

• Workforce development: Promote a skilled and inclusive workforce.

• Measurement and validation: Allow for the measurement and validation of the cost savings and performance improvements associated with the installation and use of smart city or community technologies and practices.

To accomplish these objectives, the SMART Grants Program will fund projects that focus on using technology interventions to solve real-world challenges facing communities.

SMART will focus on building data and technology capacity and expertise for State, local, and Tribal governments. Technology investment is most beneficial when tailored to the needs of the community. SMART recognizes that many public sector agencies are challenged to find the resources and personnel to engage with new technologies; this is reflected in the program design, which builds in the time and support needed for projects to succeed. SMART will support and grow a strong, diverse, and local workforce.

Successful projects will seek to build sustainable partnerships across sectors and levels of government as well as collaborate with industry, academia, nonprofits, and other traditional and non-traditional partners.

See Section E.1.i for more detail on merit criteria that implement priorities outlined above.

B. Federal Award Information

1. Total Funding Available

The BIL established the SMART Grants Program with $500,000,000 in advanced appropriations, including $100,000,000 for FY 2022. Therefore, this Notice makes available up to $100,000,000 for FY 2022 grants under the SMART Grants Program. USDOT anticipates using up to 2% of this funding for administrative costs. Refer to Section D for greater detail on additional funding considerations and Section D.7 for funding restrictions.

2. Availability of Funds

Grant funding obligation occurs when a selected applicant and USDOT enter into a written grant agreement after the applicant has satisfied applicable administrative requirements. Any costs incurred prior to USDOT's obligation of funds for activities (“pre-award costs”) are ineligible for reimbursement. SMART Program Grant funds are available until expended. USDOT retains the right to prioritize projects for selection that are most likely to achieve an efficient timeline and be completed within the expected period of performance (18 months).

3. Award Size and Anticipated Quantity

USDOT expects to award between 30 and 50 Stage 1 grants of up to $2,000,000 per award. The Department reserves the right to make more, or fewer, awards. USDOT reserves the discretion to alter maximum award sizes upon receiving the full pool of applications and assessing the needs of the program in relation to the priorities in Section A.3 and A.4. USDOT also reserves the right not to award the full funding amount requested by an applicant.

4. Start Dates and Period of Performance

USDOT expects to obligate SMART award funding via a signed grant agreement between the Department and the recipient, as flexibly and expeditiously as possible, within 12 months after project selections have been announced. The expected period of performance for Stage 1 SMART grant agreements is up to 18 months.

5. Data Collection Requirements

i. Data Management

To fulfill the reporting requirements and in accordance with the USDOT Public Access Plan, award recipients must consider, budget for, and implement appropriate data management for data and information outputs acquired or generated during the grant. Applicants are expected to account for data and performance reporting in their budget submission. Requirements include a project:

• Defaulting to open access when appropriate (exceptions include protecting personally identifiable information [PII], Indigenous data sovereignty, or confidential business information [CBI]);

• Protecting PII, intellectual property rights, and CBI;

• Utilizing, when possible, open licenses and protecting USDOT's non-exclusive copyright to data and corresponding outputs;

• Making the source code or tools necessary to analyze the data available to the public, if relevant;

• Providing relevant metadata (in a DCAT-US file, and, optionally, a discipline-appropriate metadata standard file), and data documentation (README.txt files, data dictionaries, code books, supporting files, imputation tables, etc.); and

• Where applicable, considering contributing data to voluntary resources such as NHTSA's AV TEST Initiative.

Projects should implement data management best practices including, but not limited to, implementation of published data specifications and standards (formal and informal); increasing data discoverability and data sharing; and enabling interaction of systems, interoperability, and integration of data systems.

C. Eligibility Information

1. Eligible Applicants

Eligible applicants for the SMART Grants Program include:

A. a State; ⁶

⁶ U.S. territories are eligible applicants.

B. a political subdivision of a State; ⁷

⁷ For the purposes of the SMART Grants Program Notice of Funding Opportunity, a political subdivision of a State is defined as a unit of government created under the authority of State law. This includes cities, towns, counties, special districts, and similar units of local government, such as public port or airport authorities, if created under State law.

C. a federally recognized Tribal government;

D. a public transit agency or authority;

E. a public toll authority;

F. a metropolitan planning organization; or

G. a group of two or more eligible entities listed above in Section C.1 applying through a single lead applicant (Group Application).

Collaborative Applications

Eligible entities may choose to collaborate across different regions or geographies on projects with similar characteristics, addressing similar problems and with similar technologies, potentially sharing common resources such as partnerships with industry, nonprofits, academic institutions, or community foundations. If these entities choose not to apply as a group with a single lead applicant, they should identify their application as a collaborative application.

• Each organization in a collaborative application must submit an individual application.

• Collaborative applications can include any type of eligible entity.

• Each individual application in a collaborative application will be evaluated on its own merits and USDOT reserves the right to fund all, some, or none of the associated applications, with the same anticipated funding (i.e., up to $2,000,000 per individual award).

2. Cost Sharing or Matching

Cost sharing or matching is not required for Stage I: Planning and Prototyping.

3. Eligible Activities

The SMART Grants Program funds multiple technology areas, as listed below. Projects must demonstrate at least one technology area and may demonstrate more than one technology area. USDOT will evaluate each application on its merits, and there is no expectation that applications demonstrate more than one technology area.

As stated in BIL Section 25005 (e)(1), the following technology areas are eligible projects under SMART.

Technology area | Definition
Coordinated Automation | Use of automated transportation and autonomous vehicles while working to minimize the impact on the accessibility of any other user group or mode of travel.
Connected Vehicles | Vehicles that send and receive information regarding vehicle movements in the network and use vehicle-to-vehicle and vehicle-to-everything communications to provide advanced and reliable connectivity.
Intelligent, Sensor-Based Infrastructure | Deployment and use of a collective intelligent infrastructure that allows sensors to collect and report real-time data to inform everyday transportation-related operations and performance.
Systems Integration | Integration of intelligent transportation systems with other existing systems and other advanced transportation technologies.
Commerce Delivery and Logistics | Innovative data and technological solutions supporting efficient goods movement, such as connected vehicle probe data, road weather data, or global positioning data to improve on-time pickup and delivery, improved travel time reliability, reduced fuel consumption and emissions, and reduced labor and vehicle maintenance costs.
Leveraging Use of Innovative Aviation Technology | Leveraging the use of innovative aviation technologies, such as unmanned aircraft systems, to support transportation safety and efficiencies, including traffic monitoring and infrastructure inspection.
Smart Grid | Developing a programmable and efficient energy transmission and distribution system to support the adoption or expansion of energy capture, electric vehicle deployment, or freight or commercial fleet fuel efficiency.
Smart Technology Traffic Signals | Improving the active management and functioning of traffic signals, including through:
| • Use of automated traffic signal performance measures;
| • Implementing strategies, activities, and projects that support active management of traffic signal operations, including through optimization of corridor timing; improved vehicle, pedestrian, and bicycle detection at traffic signals; or the use of connected vehicle technologies;
| • Replacement of outdated traffic signals; or
| • For an eligible entity serving a population of less than 500,000, paying the costs of temporary staffing hours dedicated to updating traffic signal technology.

Projects must comply with relevant federal, state, and local laws and regulations to be eligible. These vary by technology area, and it is the responsibility of the applicant to understand the requirements for their application. This section briefly discusses a few notable examples and is not comprehensive.

Innovative aviation projects must show understanding and awareness of, and comply with, all FAA and other federal, state, and local regulations relevant to the technologies and usages thereof. For instance, in the case of innovative aviation projects involving small, unmanned aircraft systems (UAS), applicants are responsible for complying with regulations which may include, and are not limited to the following, as necessary to achieve desired outcomes: ⁸

⁸ Other terminologies exist, using the FAA terminology “unmanned aircraft systems” for simplicity;

• 14 CFR part 91 General Operating and Flight Rules ⁹

⁹ 14 CFR part 91 https://www.ecfr.gov/current/title-14/chapter-I/subchapter-F/part-91.

• 14 CFR part 107 small UAS rule; Small UAS ¹⁰

¹⁰ 14 CFR part 107 https://www.ecfr.gov/current/title-14/chapter-I/subchapter-F/part-107.

• UAS Operations over People rule; Operations Over People General Overview ¹¹

¹¹ FAA Operations Over People General Overview https://www.faa.gov/uas/commercial_operators/operations_over_people. Last updated November 17, 2021.

• UAS Remote identification rule; UAS Remote Identification Overview ¹²

¹² FAA Final Rule on Remote ID https://www.faa.gov/uas/getting_started/remote_id#:~:text=Remote%20ID%20will%20provide%20information,drone's%20owner%20from%20the%20FAA. Last updated July 13, 2022.

Proponents of innovative aviation projects are also responsible for using U.S. government tools and resources which may include, and are not limited to the following, as necessary to fulfill requirements to operate technologies and achieve desired outcomes:

• FAA DroneZone, used to register UAS ¹³

¹³ FAA DroneZone; https://faadronezone. faa.gov/.

• FAA Low Altitude Authorization and Notification Capability (LAANC), used to obtain airspace authorization to fly in controlled airspace ¹⁴

¹⁴ FAA UAS Data Exchange (LAANC); https://www.faa.gov/uas/programs_partnerships/data_exchange.

• Part 107 Waiver Resources,¹⁵ used to enable more complex UAS operations ¹⁶

¹⁵ Part 107 Waiver resources; https://www.faa.gov/uas/commercial_operators/part_107_waivers.

¹⁶ For additional questions or information, please contact the FAA UAS Support Center at https://www.faa.gov/uas/contact_us.

Projects that use communications technologies must either (1) use Vehicle-to-Everything (V2X) services that utilize Cellular Vehicle-to-Everything (C-V2X) based technology designed to operate within the 30 MHz of spectrum (5.895-5.925 GHz) that are consistent with the final rules established in relation to Federal Communications Commission (FCC) ET Docket No. 19-138 and future Report and Orders effective at the time when the Department selects projects for funding under the FY22 SMART Grants Program, or (2) leverage other communications technologies that can support V2X services and operate in spectrum outside of the 5.895-5.925 GHz range.

Projects that involve equipping or retrofitting motor vehicles with additional technologies are only eligible if the vehicles are publicly owned, leased or used in a contracted service; equipping privately owned and operated vehicles outside of a leased or contracted service is not an eligible activity. Projects involving motor vehicles must involve only vehicles that comply with all applicable Federal Motor Vehicle Safety Standards (FMVSSs) and Federal Motor Carrier Safety Regulations (FMCSRs), or vehicles that are exempt from the requirements in a manner that allows for the legal acquisition and operation of the vehicles in the proposed project.

For all technology areas, if an exemption, waiver, permit, or other special permission is required in order to conduct the proposed project, it will strengthen a Stage 1 application if the applicant can affirm that it has already received such permission. If the project is selected for award, the lack of a required exemption, waiver, permit, or special permission may impact the Department's funding timeline or result in special conditions in the grant agreement. For future rounds of SMART that include Stage 2 applications, Stage 2 applicants will be required to obtain all necessary exemptions, waivers, permits, or special permissions before submitting an application and provide such affirmation. The selection of a project to receive a SMART grant is not a determination of the merit of any waiver or exemption.

4. Eligible Costs

Broadly, eligible activity costs must comply with the cost principles set forth in 2 CFR part 200, subpart E (i.e., 2 CFR 200.403 and § 200.405). USDOT reserves the right to make cost eligibility determinations on a case-by-case basis. Eligible development and construction activities for grant funding are the following:

• planning;

• feasibility analyses;

• revenue forecasting;

• environmental review;

• permitting;

• preliminary engineering and design work;

• systems development or information technology work;

• acquisition of real property (including land and improvements to land relating to an eligible project);

• construction;

• reconstruction;

• rehabilitation;

• replacement;

• environmental mitigation;

• construction contingencies; and

• acquisition of equipment, including vehicles.

The following are not eligible costs for SMART Grants Program funding:

• reimbursement of any pre-award costs or application preparation costs of the SMART grant application;

• traffic or parking enforcement activity; or

• purchase or lease of a license plate reader.

Federal funds may not be used to support or oppose union organizing, whether directly or as an offset for other funds.

For grant recipients receiving an award, project evaluation costs are allowable costs (either as direct or indirect), unless prohibited by statute or regulation, and such costs may include the personnel and equipment needed for data infrastructure and expertise in data analysis, performance, and evaluation. (2 CFR part 200). For more information on required reporting, see Section F.3. An eligible entity may not use more than 3 percent of the amount of a SMART grant for each fiscal year to achieve compliance with applicable planning and reporting requirements.

D. Application and Submission Information

1. Address To Request Application Package

All grant application materials can be accessed at grants.gov under the Notice of Funding Opportunity Number DOT-SMART-FY22-01. Applicants must submit their applications via Valid Eval at https://usg.valideval.com/teams/USDOT_SMART_2022/signup. Potential applicants may also request paper copies of materials at:

Telephone: 202-366-4114.

Mail: U.S. Department of Transportation, 1200 New Jersey Avenue SE, W84-322, Washington, DC 20590.

2. Content and Form of Application Submission

The application must include the following: Standard Forms (SF); Key Information Questions; Project Narrative and Summary Budget Narrative. This information must be submitted via Valid Eval at https://usg.valideval.com/teams/USDOT_SMART_2022/signup. More detailed information about each application material is provided below.

i. Standard Forms: All applicants must submit the following Standard Forms: Application for Federal Assistance (SF-424), Budget Information for Non-Construction Programs (SF-424A), Assurances for Non-Construction Programs (SF-424B). If applicable, also include Assurances for Construction Programs (SF-424D), Budget Information for Construction Programs (SF-424C) and/or Disclosure of Lobbying Activities (SF-LLL).

ii. Key Information Questions: This is a preview list of the questions that are asked on USDOT's automated proposal website at https://usg.valideval.com/teams/USDOT_SMART_2022/signup. After registering in the system, the applicant will be prompted to answer these questions on the website.

Title | Instructions
1. Project Name | Enter a concise, descriptive title for the project. This should be the same title used in the Grants.gov SF-424 submission and the application narrative.
2. Lead Applicant Name | This should be consistent with Q. 8.a. of the SF-424.
3. Lead Applicant Unique Entity Identifier (UEI) | See Section D.3 below for more information about obtaining a UEI from SAM.gov.
4. Eligible Entity Type | Indicate the eligible entity type for your application: A. a State; B. a political subdivision of a State; C. a federally recognized Tribal government; D. a public transit agency or authority; E. a public toll authority; F. a metropolitan planning organization; or G. A group application of 2 or more eligible entities described in (A) through (F).
5. Was a similar application submitted in the past two years, or do you anticipate a similar application will be submitted for funding in the coming year for this project under any other USDOT discretionary grant programs? | (If yes, please include the name of the discretionary grant program, the project title of similar grant application, and the name of the lead applicant, if different than the lead applicant on this application.)
6. Was federal funding previously received for this project? | (If yes, indicate the amount of federal funding received and the relevant grant number.)
7. Is this a group application, through a single, lead-applicant? | (If yes, please provide organizational name(s) of sub-recipient(s) that will receive funds and other key partners.)
8. Is this a collaborative application, with each applicant applying separately? | (If yes, please indicate the organizational name(s) of the other eligible applicant(s) with which you are collaborating.)
9. What additional organizations will be considered partners on this project? | (List all critical project partners, including partners that are not eligible applicants. This could include industry, academia, nonprofits, and other traditional and non-traditional partners.) ¹⁷
10. Brief Project Description | Describe the project in plain language, using no more than 100 words. Please do not describe the project's benefits, background, or alignment with the selection criteria in this description field. A longer, narrative description will be provided in the Project Narrative. The Brief Project Description of successful applicant may be published by USDOT and, therefore, must not contain classified, proprietary or confidential information.
11. Primary Project Location | Indicate the primary location at which the project will take place. If more than one location, please list additional locations in the next question.
12. Other Project Locations | Identify additional project locations, if applicable.
13. Community Size | Indicate the size of the community to be supported (large community; midsized community; regional partnership; or rural community). See definitions in Section F.1 that your project primarily benefits.
14. Project Location Primary Census Tract | Identify the primary anticipated census tract number(s) of the planned project.
15. Other Project Census Tracts | Identify Census tract information for other anticipated areas of the planned project location, if applicable.
16. Is the project located (entirely or partially) in an Historically Disadvantaged Community? | Indicate yes or no, and which one of the following two designation methods you are using:
| (1) Federally designated community development zones (for example: Opportunity Zones, Empowerment Zones, Promise Zones, Choice Neighborhoods, or Rural Partners Network-designated Community Networks).
| (2) The Climate and Economic Justice Screening Tool (CEJST) via screeningtool.geoplatform.gov.
17. Project Cost: Amount Requested | Total dollar amount requested.
18. Project Cost: Total Project Cost | Total project cost, including dollar amount requested and other funding contributions.
19. Proposed Duration of Stage 1 Project (in months) | May be up to 18 months.
20. Technology area(s) | Select the primary technology area with which your project aligns and, if applicable, any secondary technology areas:
| A. coordinated automation;
| B. connected vehicles;
| C. intelligent, sensor-based infrastructure;
| D. systems integration;
| E. commerce delivery and logistics;
| F. leveraging use of innovative aviation technology;
| G. smart grid; or
| H. smart technology traffic signals.
| Note that applications are not scored on the number of technology areas indicated, so it is important to only select the area(s) with which your project aligns.
21. Does this project relate to traffic or parking enforcement; or license plate reader activities? | Indicate “Yes” or “No.” Note that SMART grants shall not be used for any traffic or parking enforcement activity, or to purchase or lease a license plate reader.
22. Is an exemption, waiver, permit, or special permission required to conduct the proposed project? | (If yes, indicate the exemption, waiver, permit, or special permission obtained. If waiver has not been obtained, please indicate the plan or process for obtaining it in your Project Narrative.)

iii. Project Narrative: The primary purpose of the Narrative is for the applicant to state their case for meeting the merit criteria laid out in Section E. The Narrative should not exceed seven pages; this does not include the Appendices. The Narrative should be in PDF format, with font size of no less than 12-point Times New Roman, single spaced, minimum 1-inch margins on all sides, and with page numbers. Suggested approximate lengths for each subsection are noted in parentheses.

¹⁷ Letters of Commitment should be written for critical partners only. For a Letter of Commitment template, see www.transportation.gov/SMART.

a. Overview/Project Description (1-2 Pages)

This section should provide a clear, concise description of the project, the real-world issues and challenges to be addressed, and the proposed technology(ies) to be used. Include a brief discussion of desired outcomes for a potential Stage 2 grant. Applicants should also briefly discuss how the proposed project addresses the goals of the SMART program and how the project plans to improve upon the status quo of the transportation system.

b. Project Location (1 Paragraph)

This section should provide a description of the geographic area or jurisdiction the project will service, including whether or not the area in question is considered a large, midsized or rural community; whether or not the applicant is a regional partnership; and to what extent the project is located (entirely or partially) in an Historically Disadvantaged Community.¹⁸ Note that while applicants are asked to provide exact locations for each project in the key information table above, if selected for an award, the exact location may be adjusted during the Stage 1 planning process; therefore this section should explain and identify which geographic locations are under consideration for projects to be implemented and what analysis will be used in a final determination. Refer to Section D.2.ii of the Notice to provide specific location data.

¹⁸ In support of Executive Order 14008, USDOT has been developing a geographic definition of Disadvantaged Communities as part of its implementation of the Justice40 Initiative. Consistent with OMB's Interim Guidance for the Justice40 Initiative, Disadvantaged Communities include (a) certain qualifying Census tracts, (b) any Tribal land, or (c) any territory or possession of the United States.

c. Community Impact (1 Paragraph)

This section should provide a description of how the project anticipates it will provide and measure benefits to the Historically Disadvantaged Communities detailed in the Project Location Section (If applicable). This section may also outline benefits that would accrue to Historically Disadvantaged Communities outside of the specific project location. Applicants should also briefly discuss potential negative externalities of the proposed projects, who would experience them, and how they might be measured over time.

d. Technical Merit Overview (2 Pages)

This section should provide an overview of the technical merit of the proposed project, responding to the criteria for evaluation and selection in Section E.1.i of this Notice and including a compelling narrative to highlight how the application addresses the following Technical Merit criteria:

• Identification and Understanding of the Problem to Be Solved

• Appropriateness of Proposed Solution

• Expected Benefits

e. Project Readiness Overview (2 Pages)

This section should provide an overview of the project readiness, responding to the criteria for evaluation and selection in Section E.1.ii of this Notice and including a compelling narrative to highlight how the application addresses the following Project Readiness criteria:

• Feasibility of Workplan

• Community Engagement and Partnerships

• Leadership and Qualifications

iv. Appendices

a. Appendix I—Resumes

Applicants should submit the abbreviated resumes of the key individuals involved in the project. This appendix should be no more than three pages.

b. Appendix II—Summary Budget Narrative

Applicants shall provide a summary budget narrative that corresponds to and describes information contained in the applicant's SF-424A. The narrative should describe all planned project costs for Stage 1 (i.e., direct labor, travel, equipment, supplies, contractual, construction, and other) and how these planned costs relate to the project scope. The summary budget narrative must be sufficiently clear, concise, and detailed to describe how funds will be spent on the project. Applicants are expected to account for data and performance reporting in their budget submission, consistent with section B.5.i of this NOFO.

c. Appendix III—Letters of Commitment

Applicants should submit letters of commitment for critical partners involved in the project. This appendix should be no more than 10 pages, and each letter should be no more than 2 pages.

3. Unique Entity Identifier and System for Award Management (SAM)

Each applicant is required to: (i) be registered in SAM (https://sam.gov/content/home) before submitting its application; (ii) provide a valid unique entity identifier in its application; and (iii) continue to maintain an active SAM registration with current information at all times during which it has an active federal award or an application or plan under consideration by a federal awarding agency. USDOT may not make a Federal award to an applicant until the applicant has complied with all applicable unique entity identifier and SAM requirements and, if an applicant has not fully complied with the requirements by the time USDOT is ready to make an award, USDOT may determine that the applicant is not qualified to receive an award and use that determination as a basis for making an award to another applicant.

4. Submission Date and Time

Applications must be submitted by 5:00 p.m. EST on Friday, November 18, 2022.

5. Funding Restrictions

Per BIL requirements, of the funds awarded each fiscal year for the SMART Grants Program, not more than 40 percent shall be used to provide SMART grants for eligible projects that primarily benefit large communities; not more than 30 percent shall be provided for eligible projects that primarily benefit midsized communities; and not more than 30 percent shall be used to provide SMART grants for eligible projects that primarily benefit rural communities or regional partnerships.

In addition, an eligible entity may not use more than three percent of the amount of a SMART grant for each fiscal year to achieve compliance with applicable planning and reporting requirements.

6. Other Submission Requirements

The complete application must be submitted via Valid Eval, an online submission proposal system used by USDOT at https://usg.valideval.com/teams/USDOT_SMART_2022/signup.

E. Application Review Information

1. Criteria

This section specifies the criteria USDOT will use to evaluate and select applications for Stage 1 SMART grant awards. These include Technical Merit Criteria, Project Readiness and Other Considerations.

i. Technical Merit Selection Criteria

Stage 1 Grants will be evaluated against three technical merit criteria:

• Technical Merit Criterion #1: Identification and Understanding of the Problem to Be Solved

○ The applicant demonstrates a thorough understanding of existing conditions

○ The proposed solution addresses a documented and critical problem or need

• Technical Merit Criterion #2: Appropriateness of Proposed Solution

○ Technologies proposed are sufficiently developed such that there is good reason to anticipate public benefits from their use

○ The proposed solution is repeatable and could rapidly be scaled

○ The proposed solution represents a demonstrable improvement over the status quo

○ The proposed solution is appropriate for the location's population density and existing transportation system, including public transportation

• Technical Merit Criterion #3: Expected Benefits

○ The application clearly explains the rationale for expecting that the proposed project will use advanced data, technology, and applications to provide significant benefits in alignment with Departmental and Program Priorities in Section A.3 and A.4.

○ Departmental Priorities include the FY22-26 Strategic Goals and Innovation Principles and Program Priorities include safety, reliability, and resiliency; equity and access; climate; partnerships; and integration

ii. Project Readiness Selection Criteria

Project Readiness focuses on the extent to which the applicant will be able to substantially execute and complete the full scope of work in the Stage 1 Grant application within 18 months of when the grant is executed.

• Project Readiness Criterion #1: Feasibility of Workplan

○ The application clearly describes a thorough and realistic workplan and timeline. The application should also demonstrate the ability to complete the project in the proposed period of performance.

○ The application identifies and understands the legal, policy, and regulatory requirements and identifies and accounts for any relevant exemptions, waivers, permits, or special permissions required to conduct the proposed project.

○ The application identifies ways to measure and validate the project's expected benefits and community impacts, as well as performance improvements and cost savings.

○ The application identifies a practical approach to developing internal workforce capacity regarding data and technology projects, including a plan for an approporiately skilled and trained workforce to carry out the project.

• Project Readiness Criterion #2: Community Engagement and Partnerships

○ The proposed solution demonstrates a community-centered approach that includes meaningful, continuous, accessible engagement with a diverse group of public and private stakeholders. The proposed solution articulates strategies to provide access to persons with disabilities and limited English proficient individuals.

○ The application shows plans to build sustainable partnerships across sectors and governmental jurisdictions and collaborate with industry, academia, and nonprofits, such as community, workforce development, and labor organizations.

○ The applicant engages relevant private sector stakeholders and technical experts and elicits their perspective on implementation of the proposed solution.

○ The application establishes commitment of one or more key partner(s), if relevant, as identified in the project narrative. This should be demonstrated by a Letter of Commitment submitted as an attachment to the proposal, as well as a Memorandum-of-Understanding signed prior to any Grant Agreement. A key partner may be a public agency, utility company, private sector company, or some other entity that is central, and critical, to the project.

• Project Readiness Criterion #3: Leadership and Qualifications

○ The application demonstrates relevant and necessary technical expertise of the project team.

○ The application details relevant experience of leadership in managing multi-stakeholder projects.

○ The application shows continuity of committed leadership and the applicant's functional capacity to carry out the proposed project and, where applicable, to maintain and operate the project after the conclusion of Stage 2.

iii. Additional Consideration: Benefit to Historically Disadvantaged Communities

The Department seeks to award projects under the SMART Grants Program that address environmental justice, particularly for communities that disproportionally experience climate change-related consequences. Environmental justice, as defined by the Environmental Protection Agency, is the fair treatment and meaningful involvement of all people regardless of race, color, national origin, or income, with respect to the development, implementation, and enforcement of environmental laws, regulations, and policies.¹⁹ As part of the Department's implementation of Executive Order 14008, Tackling the Climate Crisis at Home and Abroad (86 FR 7619), the Department seeks to fund projects that, to the extent possible, target at least 40 percent of resources and benefits towards low-income communities, disadvantaged communities, communities underserved by affordable transportation, or overburdened communities. Projects that have not sufficiently considered climate change and environmental justice in their planning, as determined by the Department, will be required to do so before receiving funds.

¹⁹ Environmental Justice at the EPA, http://www.epa.gov/environmentaljustice/.

2. Review and Selection Process

This section addresses the BIL requirement to include a full description in the NOFO of the method by which applicants will be evaluated. The SMART Grant Program review and selection process consists of eligibility reviews, Technical Merit and Project Readiness criteria review, and Senior Review Team review. The Secretary will make the final selections for award.

i. Eligibility Review

For each application, an initial review will assess whether the applicant is eligible (based on eligibility information in Section C) and contains all of the information requested in Section D for a complete application. Eligible and complete applications received by the deadline will be reviewed for their merit based on the selection criteria in Section E.1.i and E.1.ii.

ii. Technical Merit and Project Readiness Criteria Ratings

Teams comprising USDOT staff, Federal inter-agency partner staff, and contractor staff review all eligible and complete applications received by the deadline for a Technical Merit and Project Readiness Review and assign ratings as described in the table below. For each criterion, USDOT will consider whether the application narrative is responsive to the selection criterion focus areas which will result in a rating of `High,' `Medium,' `Low,' or `Non-Responsive:'

Rating scale | High | Medium | Low | Non-Responsive
Description | The application is substantively and comprehensively responsive to the criterion. It makes a strong case about advancing the program goals as described in the criterion descriptions | The application is moderately responsive to the criterion. It makes a moderate case about advancing the program goals as described in the criterion descriptions | The application is minimally responsive to the criterion. It makes a weak case about advancing the program goals as described in the criterion descriptions | The application is counter to the criterion or does not contain sufficient information. It does not advance or may negatively impact criterion goals.

Based on the criteria ratings, an overall application merit rating of `Highly Recommended,' `Recommended,' `Not Recommended,' or `Ineligible' will be assigned as a result of evaluation team consensus discussion. Only applications rated as `Highly Recommended' or `Recommended' will be reviewed by a Senior Review Team (SRT). Applications rated `Not Recommended' or `Ineligible' will not be evaluated further and will not be considered for award.

iii. Senior Review Team (SRT) Phase

Once every eligible and complete application has been assigned an overall rating based on the methodology above, all “Highly Recommended” applications will be included in a list of Applications for Consideration. The SRT will review whether the list of “Highly Recommended” applications is sufficient to ensure that of the funds awarded each fiscal year for the SMART Grants Program, not more than 40 percent will be used to provide SMART grants for eligible projects that primarily benefit large communities; not more than 30 percent will be used to provide SMART grants for eligible projects that primarily benefit midsized communities; and not more than 30 percent will be used to provide SMART grants for eligible projects that primarily benefit rural communities or regional partnerships. “Recommended” applications may be added to the proposed list of Applications for Consideration until a sufficient number of applications are on the list to ensure that all the legislative requirements can be met. The Department will consider the diversity of technology areas across all applications when reviewing recommendations.

iv. Highly Rated Applications for USDOT Secretary's Review

The SRT will present the list of Applications for Consideration to the Secretary, either collectively or through a representative of the SRT. The SRT may advise the Secretary on any application on the list of Applications for Consideration, including options for reduced or increased awards, and the Secretary will make final selections. The Secretary's selections identify the applications that best address program requirements and are most worthy of funding. The Secretary will consider contributions to geographic diversity among grant recipients, including the need for balancing the needs of rural communities, midsized communities, and large communities. The Secretary also may consider benefits to economically disadvantaged communities, Federally Recognized Tribes, and geographic and organizational diversity when selecting SMART Grants Program awards.

3. Additional Information

Prior to entering into a grant agreement, each selected applicant will be subject to a risk assessment as required by 2 CFR 200.206. The Department must review and consider any information about the applicant that is in the designated integrity and performance system accessible through SAM (currently the Federal Awardee Performance and Integrity Information System [FAPIIS]). An applicant may review information in FAPIIS and comment on any information about itself that a Federal awarding agency previously entered. The Department will consider comments by the applicant, in addition to the other information in FAPIIS, in making a judgment about the applicant's integrity, business ethics, and record of performance under Federal awards when completing the review of risk posed by applicants. Because award recipients under this program may be first-time recipients of Federal funding, USDOT is committed to implementing the program as flexibly as permitted by statute and to providing assistance to help award recipients through the process of securing a grant agreement and delivering SMART Grant projects. Award recipients are encouraged to identify any needs for assistance in delivering the projects and strategies so that USDOT can provide directly, or through a third party, sufficient support and technical assistance to mitigate potential execution risks.

F. Federal Award Administration Information

1. Federal Award Notices

Following the evaluation outlined in Section E, the Secretary will announce awarded applications by posting a list of selected recipients at www.transportation.gov/smart. The posting of the list of selected award recipients will not constitute an authorization to begin performance. Following the announcement, the Department will contact the point of contact listed in the applicant SF-424 to initiate negotiation of a grant agreement.

2. Administrative and National Policy Requirements

i. Critical Infrastructure Security, Cybersecurity, and Resilience

It is U.S. policy to strengthen the security and resilience of its critical infrastructure against both physical and cyber threats. Each applicant selected for Federal funding under this notice must demonstrate, prior to the signing of the grant agreement, effort to consider and address physical and cybersecurity risks relevant to the transportation mode and type and scale of the project. Projects that have not appropriately considered and addressed physical and cybersecurity and resilience in their planning, design, and project oversight, as determined by USDOT and the Department of Homeland Security, will be required to do so before receiving funds for deployment, consistent with Presidential Policy Directive 21—Critical Infrastructure Security and Resilience and the National Security Presidential Memorandum on Improving Cybersecurity for Critical Infrastructure Control Systems.

ii. Prohibited Telecommunications Equipment and Services

Federal award recipients and sub-recipients are prohibited from obligating or expending grant funds to procure or obtain; extend or renew a contract to procure or obtain; or enter into a contract (or extend or renew a contract) to procure or obtain equipment, services, or systems that use “covered telecommunications equipment or services” as a substantial or essential component of any system, or as critical technology as part of any system. “Covered telecommunications equipment or services” means telecommunications and video surveillance equipment or services produced by Huawei Technologies Company, ZTE Corporation, Hytera Communications Corporation, Hangzhou Hikvision Digital Technology Company, or Dahua Technology Company (or any subsidiary or affiliate of such entities). “Covered telecommunications equipment or services” also includes telecommunications or video surveillance equipment or services provided by an entity that the Secretary of Defense, in consultation with the Director of the National Intelligence or the Director of the Federal Bureau of Investigation, reasonably believes to be an entity that is owned or controlled by the government of the People's Republic of China. Entities added to this list will be incorporated into the excluded parties list in the System for Award Management (SAM) (www.sam.gov). When a user conducts a search of the excluded parties list, a record will appear describing the nature of the exclusion for any entity identified as covered by this prohibition. See Section 889 of Public Law 115-232 (National Defense Authorization Act for Fiscal Year 2019) and 2 CFR 200.216 & 200.471.

iii. Domestic Preference Requirements

As expressed in Executive Order 14005, Ensuring the Future Is Made in All of America by All of America's Workers (86 FR 7475),²⁰ it is the policy of the Executive Branch to maximize, consistent with law, the use of goods, products, and materials produced in, and services offered in, the United States. Projects under this notice will be subject to the domestic preference requirements at § 70914 of the Build America, Buy America Act, as implemented by OMB and USDOT, and any awards will contain the award terms specified in OMB Memorandum M-22-11, Initial Implementation Guidance on Application of Buy America Preference in Federal Financial Assistance Programs for Infrastructure.²¹

²⁰ https://www.federalregister.gov/documents/2021/01/28/2021-02038/ensuring-the-future-is-made-in-all-of-america-by-all-of-americas-workers.

²¹ https://www.whitehouse.gov/wp-content/uploads/2022/04/M-22-11.pdf.

Applicants should note that the Department has proposed a Build America, Buy America Act waiver for Stage 1 grants awarded in FY 2022 of the SMART Grants Program for the limited cases where the Buy America would apply for planning and prototyping activities. Data will be collected for Stage 1 FY 2022 awards that will help inform the application of Buy America requirements to the funding of implementation activities under the program and identify any current gaps in the domestic availability of products that could potentially be filled by American suppliers. The Department anticipates finalizing the waiver during the open period. Please consult www.transportation.gov/smart for the most up-to-date information.

iv. Civil Rights and Title VI

SMART award recipients should demonstrate compliance with civil rights obligations and nondiscrimination laws, including Titles VI of the Civil Rights Act of 1964, the Americans with Disabilities Act (ADA), and Section 504 of the Rehabilitation Act, and accompanying regulations. Recipients of Federal transportation funding will also be required to comply fully with regulations and guidance for the ADA, Title VI of the Civil Rights Act of 1964, Section 504 of the Rehabilitation Act of 1973, and all other civil rights requirements. The Department's and the applicable Operating Administrations' Offices of Civil Rights may work with awarded grant recipients as appropriate to ensure full compliance with Federal civil rights requirements.

Recipients of Federal transportation funding will be required to comply fully with regulations and guidance for the ADA, Title VI of the Civil Rights Act of 1964, Section 504 of the Rehabilitation Act of 1973, and all other civil rights requirements. The Department's and the applicable Operating Administration's Offices of Civil Rights will be providing resources and technical assistance to ensure full and sustainable compliance with Federal civil rights requirements.

v. National Environmental Policy Act of 1969 (NEPA)

Funding recipients must comply with NEPA under 42 U.S.C. 4321 et seq. and the Council on Environmental Quality's NEPA implementing regulations at 40 CFR 1500-1508, where applicable.

3. Reporting

This section discusses reporting requirements for SMART.²² USDOT will provide additional information and detail regarding reporting requirements and formats to recipients. All final reports under this agreement will be made publicly available. All publications resulting from this program shall follow USDOT publication guidelines and comply with the current USDOT Public Access Plan. In addition, data from these efforts are expected to be made widely available where appropriate, also in accordance with the USDOT Public Access Plan.²³

²² Title I of the Foundations for Evidence-Based Policymaking Act of 2018 (Evidence Act), Pub. L. 115-435 (2019) urges federal awarding agencies and federal assistance recipients and subrecipients to use program evaluation as a critical tool to learn, to improve equitable delivery, and to elevate program service and delivery across the program lifecycle.

²³ https://www.transportation.gov/sites/dot.gov/files/docs/Official%20DOT%20Public%20Access%20Plan.pdf.

i. Progress Reporting on Grant Activities

Each applicant selected for a Stage 1 Grant must submit quarterly progress reports and Federal Financial Reports (SF-425) to monitor project progress and ensure accountability and financial transparency in the SMART grant program. A standard reporting form for the quarterly progress reports will be provided for grantees to summarize status updates including activities accomplished during the quarter, financial and schedule reporting, anticipated activities for the next quarter, and a description of project challenges and lessons learned.

ii. Evaluation and Data Management Plan

Recipients and subrecipients are required to incorporate program evaluation including associated data collection activities, from the outset of their program design and implementation to meaningfully document and measure their progress towards meeting agency priority goals.²⁴

²⁴ Evaluation means “an assessment using systematic data collection and analysis of one or more programs, policies, and organizations intended to assess their effectiveness and efficiency.” 5 U.S.C. 311.

Each applicant selected for a Stage 1 Grant must submit an evaluation and data management plan no later than three months after receiving the grant that provides an overview of how the project will be evaluated and how the data being collected will be managed and stored.²⁵ The plan must describe the anticipated impact areas (i.e., goals) of the project if implemented at scale and the methods that will be used to estimate the anticipated benefits and costs associated with implementation. Based on these project goals, the plan must include robust performance metrics and measurable targets to inform whether the proof-of-concept or prototype meets expectations and whether full implementation would meet program goals. The applicants selected for a Stage 2 Grant must update this evaluation and data management plan to include robust performance metrics and targets for the at-scale implementation, a detailed description of the evaluation methods that will be used to measure the anticipated impacts, and an overview of data sharing opportunities.²⁶ The updated plan must also provide more detailed information on the types of data being collected and how that data will be managed and stored (e.g., cybersecurity practices, how privacy is protected, the entities that have access to the data).

²⁵ Credible program evaluation activities are implemented with relevance and utility, rigor, independence and objectivity, transparency, and ethics (OMB Circular A-11, Part 6 Section 290).

²⁶ Data sharing opportunities may include either interagency data sharing or open data sharing with the public.

iii. Implementation Report

Each applicant selected for a Stage 1 Grant must submit an implementation report that assesses the anticipated costs and benefits of the project and demonstrates the feasibility of at-scale implementation. A draft report shall be submitted no later than one year after receiving the grant, and the final report shall be submitted by the end of the period of performance. This timeline may be adjusted for projects with a period of performance that differs from 18 months.

Per BIL requirements, grant recipients must submit implementation reports that describe the deployment and operational costs of each project as compared to the benefits and savings from the project. The reports must also describe:

1. the means by which the project has met the original expectation, as projected in the grant application, including data describing the means by which the project met the specific goals. Examples include:

a. reducing traffic-related fatalities and injuries;

b. reducing traffic congestion or improving travel-time reliability;

c. the effectiveness of providing to the public real-time integrated traffic, transit, and multimodal transportation information to make informed travel decisions; and

d. reducing barriers or improving access to jobs, education, or various essential services;

2. lessons learned and recommendations for future deployment strategies to optimize transportation efficiency and multimodal system performance.

For the implementation reports during Stage 1, grant recipients will provide an analysis of the anticipated costs and benefits and address project expectations by providing:

1. data on the performance metrics for the proof-of-concept or prototype;

2. preliminary baseline data for an evaluation of an at-scale implementation; ²⁷

²⁷ For applicants selected for a Stage 2 Grant, refined or updated baseline data may be required for the project evaluation.

3. a detailed description of the communities that would be impacted by at scale implementation and the anticipated distribution of benefits;

4. additional quantitative data to substantiate key assumptions;

5. anticipated and/or estimated impact and effectiveness of the project based on the performance metrics; and

6. anticipated and/or estimated distribution of benefits within the community being served.

During Stage 1, grant recipients may uncover previously unknown institutional barriers or technical limitations. In the implementation report, grantees will describe the requirements for successful deployment and assess the feasibility of an at-scale implementation. The assessment will include identified strategies or demonstrated progress in addressing the following implementation feasibility and readiness factors by the end of the Stage 2 Grant.

a. Legal, Policy, and Regulatory Requirements (e.g., environmental permits and reviews; public outreach; State and local approvals; equity and accessibility requirements)

b. Procurement and Budget (e.g., availability of suppliers and equipment; an analysis of the cost differential to comply with Build America Buy America; reliability of cost estimates; critical property acquisition)

c. Partnerships (e.g., MOUs for stakeholder coordination; private sector and user adoption and acceptance)

d. Technology Suitability (e.g., systems engineering including Concept of Operations [ConOps] and Detailed Design; reliability and maturity of technology; compatibility with existing infrastructure, procurement processes)

e. Data Governance (e.g., storage capability; database analytic capability; integration requirements; sharing agreements; cybersecurity and privacy protocols)

f. Workforce Capacity (e.g., availability of workforce from development and installation to operations and maintenance; availability of workforce training; agency capacity for deployment, operation, and evaluation)

g. Sustainability (e.g., agency/institutional capacity for continued operations following the grant funded period; revenue needs for continued operations)

h. Community Impact (e.g., distribution of benefits and negative impacts across the community, including Historically Disadvantaged Communities; meaningful community engagement efforts, including strategies to provide access to persons with disabilities and limited English proficient individuals)

i. Other Relevant Factors.

The final implementation report must also describe initial project goals, challenges and lessons learned related to implementation. It should include an analysis of the success, challenges and validity of the initial approach; any changes or improvements they would make in Stage 2, if recommended for award; and any anticipated challenges to continued maintenance and operations (i.e., after the Stage 2 grant funds have been expended).

iv. Program Evaluation

As a condition of grant award, grant recipients may be required to participate in an evaluation undertaken by USDOT or another agency or partner. The evaluation may take different forms such as an implementation assessment across grant recipients, an impact and/or outcomes analysis of all or selected sites within or across grant recipients, or a benefit/cost analysis or assessment of return on investment. USDOT may require applicants to collect data elements to aid the evaluation. As a part of the evaluation, as a condition of award, grant recipients must agree to: (1) make records available to the evaluation contractor or USDOT staff; (2) provide access to program records, and any other relevant documents to calculate costs and benefits; (3) in the case of an impact analysis, facilitate the access to relevant information as requested; and (4) follow evaluation procedures as specified by the evaluation contractor or USDOT staff.

v. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

vi. Knowledge Transfer Activities

In order to disseminate lessons learned to the public and to encourage collaboration between recipients, USDOT will coordinate various knowledge transfer activities which may include webinars, peer exchanges or attendance at conferences and meetings. The activities will be tailored to address the needs and interests of the grantees and serve as a resource for connecting grantees facing similar technical and institutional challenges. Recipients will share status updates and technical knowledge, and exchange information about their progress, challenges, and lessons learned. The SF-424A should include travel costs, assuming two in-person meetings in Washington, DC.

G. Federal Awarding Agency Contacts

For further information concerning this notice, please contact the Office of the Assistant Secretary for Research and Technology via email at smart@dot.gov no later than ten business days prior to the NOFO closing. In addition, up to the application deadline, the Department will post answers to common questions and requests for clarifications on the Department's website at www.transportation.gov/smart. To ensure applicants receive accurate information about eligibility or the program, the applicant is encouraged to contact the Department directly with questions, rather than through intermediaries or third parties. Department staff may also conduct briefings on the SMART grant selection and award process upon request. On request of an eligible entity that submitted an application per Section D with respect to a project that is not selected for a SMART grant, Department staff will provide to the eligible entity technical assistance and briefings relating to the project.

H. Other Information

User-friendly information and resources regarding USDOT's discretionary grant programs relevant to rural applicants can be found on the Rural Opportunities to Use Transportation for Economic Success (ROUTES) website at transportation.gov/rural.

1. Definitions

Term | Definition
Large community | A community with a population of not less than 400,000 individuals, as determined under the most recent annual estimate of the Bureau of the Census.
Midsized community | Any community that is not a large community or a rural community.
Political subdivision of a state | A unit of government created under the authority of State law. This includes cities, towns, counties, special districts, and similar units of local government, such as public port or airport authorities, if created under State law.
Regional partnership | A partnership composed of two or more eligible entities located in jurisdictions with a combined population that is equal to or greater than the population of any midsized community.
Rural community | The term “rural community” means a community that is located in an area that is outside of an urbanized area (as defined in section 5302 of title 49, United States Code, which defines “rural” as a community with a population of less than 50,000 individuals).
Resiliency | The ability to prepare for and adapt to changing conditions and withstand, recover, and reorganize rapidly from disruptions to a community (e.g., population, economy, etc.). Resilience includes the ability to withstand and recover from manmade and naturally occurring threats or incidents, including widespread and long-term threats or incidents.
Historically Disadvantaged Community | For the purposes of the SMART NOFO, applicants may demonstrate the “historical disadvantage” of the project area according to ONE of the following tools:
| (1) Federally designated community development zones (for example: Opportunity Zones, Empowerment Zones, Promise Zones, Choice Neighborhoods, or Rural Partners Network-designated Community Networks).
| (2) The Climate and Economic Justice Screening Tool (CEJST) via screeningtool.geoplatform.gov.

Issued in Los Angeles, CA, on September 19, 2022.
Tara Lanigan,
Program Analyst.

[FR Doc. 2022-20597 Filed 9-22-22; 8:45 am]

BILLING CODE P